ENVIRONMENTAL PROTECTION AGENCY

[ER-FRL-6687-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20060507, ERP No. D-FHW-J40175-UT, South Logan to Providence Transportation Corridor Project, Improvements to 100 East Street between 300 South (Logan) to Providence Lane (100 North) in Providence, Funding and Right-of-Way Grant, Cities of Logan and Providence, Cache County, UT.

Summary: EPA expressed environmental concerns about impacts to wetlands, floodplains, and air impacts related to PM 2.5. EPA is also concerned about cumulative impacts.

Rating EC2.

EIS No. 20070053, ERP No. D-AFS-L65533-ID, Sun Valley Resort (Bald Mountain) 2005 Master Plan—Phase I Project, Implementation, Special-Use-Permits, Sawtooth National Forest, Blaine County, ID.

Summary: EPA raised environmental concerns with the impacts to water quality, erosion, and changes stream flows. Also, the final EIS should address cumulative impacts associated with future development and expanded snowmaking operations.

Rating EC2.

EIS No. 20070071, ERP No. D-USA-D11041-VA, Fort Belvoir 2005 Base Realignment and Closure (BRAC) Recommendations and Related Army Actions, Implementation, Fairfax County, VA.

Summary: EPA expressed environmental concerns about natural resources impacts. EPA requested additional information on the locations of forest removal and habitat loss.

Rating EC2.

EIS No. 20070077, ERP No. D-AFS-J65376-SD, Mitchell Project Area, To Implement Multiple Resource Management Actions, Mystic Ranger District, Black Hills National Forest, Pennington County, SD.

Summary: EPA expressed environmental concerns about human health exposure to pollutants from smoke and impacts to air quality, and impacts from road construction to water quality.

Rating EC2.

EIS No. 20070105, ERP No. D-USA-D15001-MD, Fort George G. Meade Base Realignment and Closure 2005 and Enhanced Use Lease (EUL) Actions, Implementation, Anne Arundel, Howard, Montgomery, Prince George's Counties, MD.

Summary: EPA expressed environmental concerns about the natural resources impacts. EPA requested additional information on upland habitat, wetlands, surface water, and wildlife. EPA also recommends that the cumulative impact discussion be expanded to include water and wetland resources.

Rating EC2.

EIS No. 20070111, ERP No. D-HUD-L85028-WA, Westpark Redevelopment Master Plan, Redevelop of 82-acre Site to create a Mixed-Use, Mixed-Income Pedestrian Oriented Urban Community, Funding and US Army COE Section 10 Permit, City of Bremerton, Kitsap County, WA.

Summary: EPA utilized a screening tool to conduct a limited review of the EIS and, based on the screen, we do not foresee having any environmental objections to the proposed project.

Rating LO.

EIS No. 20070114, ERP No. D-USA-G15001-NM, Cannon Air Force Base (AFB), Proposal to Beddown, or Locate Air Force Special Operations Command (AFSOC), Implementation, Base Realignment and Closure (BRAC), NM.

Summary: EPA had no objections to the proposed action.

Rating LO.

EIS No. 20070124, ERP No. D-FHW-C40169-NY, NY-112 Reconstruction Project, From I-495 to NY-25 Improve Safety and Mobility, Town of Brookhaven, Suffolk County, NY.

Summary: EPA has no objections to the proposed project.

Rating LO.

EIS No. 20070079, ERP No. DS-AFS-L65509-WA, School Fire Salvage Recovery Project, To Clarify Definitions of Live and Dead Trees, Implementation, Pomeroy Ranger District, Umatilla National Forest, Columbia and Garfield Counties, WA.

Summary: While EPA has no objections to the proposed action, EPA did recommend that the Forest Service monitor the survival of fire-damaged trees across the project area (both inside and outside of sale units) using the result to validate and calibrate the Scott Guidelines.

Rating LO.

EIS No. 20070113, ERP No. DS-TVA-E06008-TN, Watts Bar Nuclear Plant Unit 2, Completion and Operation, Updated Information on Extensive Environmental Record, Rhea County, TN.

Summary: EPA expressed concern about radioactive waste disposition after 2008 and the proposed Dry Cask storage plans. EPA requested the radiological monitoring of all plant effluents along with appropriate storage and disposition of radioactive waste.

Rating EC1.

Final EISs

EIS No. 20070101, ERP No. F-FHW-F40430-IN, US-31 Kokomo Corridor Project, Preferred Alternative is J, Transportation Improvement between IN-26 and U.S. 35 Northern Junction, City of Kokomo and Center Township, Howard and Tipton Counties, IN.

Summary: EPA continues to express concern that adequate mitigation is not being proposed. EIS No. 20070117, ERP No. F-AFS-D65036-PA, Allegheny National Forest, Proposed Revised Land and Resource Management Plan, Preferred Alternative is Cm, Implementation, Elk, Forest, McKean and Warren Counties, PA.

Summary: EPA still has concerns with the potential for adverse impacts from oil and gas development to water quality and wildlife resources. EPA encourages the Forest Service to work closely with the permitting agencies and state environmental agencies to minimize impacts from these activities.

EIS No. 20070128, ERP No. F-AFS-L65511-ID, Myrtle Creek Healthy Forest Restoration Act Project, Proposes Aquatic and Vegetation Improvement Treatments, Panhandle National Forests, Bonners Ferry Ranger District, City of Bonners Ferry, Boundary County, ID.

Summary: No formal comment letter was sent to the preparing agency.

EIS No. 20070135, ERP No. F-AFS-L65507-ID, White/White Analysis Project, Preferred Alternative is 4, Vegetative Management and Watershed Improvement, Lolo Creek, Chamook Creek, White Creek, Mike White Creek, Nevada Creek, and Utah Creek, Lochsa Ranger District, Clearwater National Forest, Idaho and Clearwater County, ID.

Summary: While EPA supports the proposed watershed improvement activities, we have continued concerns related to 303(d) listed streams. EPA recommends implementing BMPs for other activities such as grazing and placer mining to improve aquatic habitat and water quality.

EIS No. 20070137, ERP No. F-AFS-L65482-ID, Aspen Range Timber Sale and Vegetation Treatment Project, Preferred Alternative is 5, Proposal to Treat Forested and Nonforested Vegetation, Caribou-Targhee National Forest, Soda Springs Ranger District, Caribou County, ID.

Summary: EPA has no objections to the proposed project.

EIS No. 20070095, ERP No. FS-AFS-L65383-ID, Hidden Cedar Project, Updated Information, Manage Vegetation Conditions and the Transportation System, Idaho Panhandle National Forests, St. Joe Ranger District, Benewah, Latah and Shoshone Counties, ID.

Summary: EPA previous water quality issues have been resolved; therefore, EPA has no objection to the proposed action.

Dated: May 22, 2007.
Ken Mittelholtz,
Environmental Protection Specialist, Office of Federal Activities.

[FR Doc. E7-10132 Filed 5-24-07; 8:45 am]

BILLING CODE 6560-50-P